DEPARTMENT OF AGRICULTURE

Forest Service

Notice of New Recreation Fee Site; Federal Lands Recreation Enhancement Act, (Title VIII, Pub. L. 108-447)

AGENCY: National Forests in North Carolina, USDA Forest Service.

ACTION: Notice of New Recreation Fee Site.

SUMMARY: The National Forests in North Carolina will begin charging a $5.00 daily special recreation permit trail fee per Off Highway Vehicle (OHV) and $30.00 per OHV for a season pass for use of the Black Swamp OHV trail system. Construction of the site was completed in 2005. This new trail system replaces a system that existed until 2005. The trail system was moved to protect environmental sites and will facilitate continued OHV use within the National Forests in North Carolina on the Croatan Ranger District. Fee revenue will support operations and maintenance of the trail system and trailhead and future site improvements.

DATES: Black Swamp OHV Area is scheduled to open for public use in 2006.

FOR FURTHER INFORMATION CONTACT: David H. Wright, Recreation Fee Coordinator, 828-257-4256, National Forests in North Carolina, PO Box 2750, Asheville, NC 28802.

SUPPLEMENTARY INFORMATION: The Federal Recreation Lands Enhancement Act (Title VIII, Pub. L. 108-447) directed the Secretary of Agriculture to publish advance notice in the Federal Register whenever new recreation fee areas are established. The National Forests in North Carolina presently manages four OHV fee sites in North Carolina. Recreation fees are $5.00 per OHV per day and $30.00 per OHV per season pass. Black Swamp OHV Area will offer vault toilet facilities, improved parking area, information kiosk, and access to twelve miles of OHV trails.

Dated: January 25, 2006.
Marisue Hilliard,
National Forests in North Carolina Supervisor.

[FR Doc. 06-876 Filed 1-30-06; 8:45 am]

BILLING CODE 3410-52-M